DEPARTMENT OF LABOR

Employment and Training Administration

[TA-W-71,489]

Manpower Employed On-Site at SGL Carbon LLC, St. Marys, PA; Notice of Termination of Investigation

Pursuant to Section 223 of the Trade Act of 1974, as amended, an investigation was initiated on June 30, 2009 in response to a petition filed by on behalf of workers of Manpower, leased workers employed on-site at SGL Carbon LLC, St. Marys, Pennsylvania.

The petitioning group of workers is covered by an active certification (TA-W-65,576, as amended) which expires on April 21, 2011. Consequently, further investigation in this case would serve no purpose, and the investigation has been terminated.

Signed at Washington, DC, this 30th day of July 2009.
Richard Church,
Certifying Officer, Division of Trade Adjustment Assistance.

[FR Doc. E9-20463 Filed 8-25-09; 8:45 am]

BILLING CODE 4510-FN-P